DEPARTMENT OF JUSTICE

Notice of Lodging of Proposed Consent Decree Under the Comprehensive Environmental Response, Compensation, and Liability Act

On June 4, 2015, the Department of Justice lodged a proposed Consent Decree with the United States District Court for the Southern District of Mississippi, Southern Division in the lawsuit entitled United States of America v. Stewart Gammill III and Lynn Crosby Gammill. Civil Action No. 1:12cv134 HSO-RHW.

The United States had filed a complaint against Lynn Crosby Gammill (Mrs. Gammill) and her spouse Stewart Gammill (Mr. Gammill) on April 30, 2012. The complaint alleged claims against Mr. and Mrs. Gammill under Section 107(a) of the Comprehensive Environmental Response, Compensation and Liability Act, as amended (CERCLA), 42 U.S.C. 9607(a), for recovery of unreimbursed costs incurred by the United States with respect to the Picayune Wood Treating Superfund Site located in Picayune, Pearl River County, Mississippi (the Site). By a Consent Decree entered in this case by the United States District Court for the District of Mississippi, Southern Division on September 17, 2013, Mr. Gammill paid $2 million in resolution of the claims asserted against him.

The United States has agreed to resolve the claims against Mrs. Gammill in the proposed Consent Decree under the following terms: Mrs. Gammill will pay the United States $1,723,722.00 plus interest. Mrs. Gammill may pay in two installments: The first installment of $574,574 within thirty days of Decree entry, with the remaining $1,149,148, plus interest, due one year later.

The United States covenants not to sue under CERCLA Sections 106 and 107 subject to statutory reopeners and other reserved rights. The covenants are conditioned upon the satisfactory performance of all obligations under the Consent Decree.

The publication of this notice opens a period for public comment on the Consent Decree. Comments should be addressed to the Assistant Attorney General, Environment and Natural Resources Division, and should refer to United States of America v. Stewart Gammill III and Lynn Crosby Gammill. Civil Action No. 1:12cv134 HSO-RHW; D.J. Ref. No. 90-11-2-09451/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.justice.gov/enrd/consent-decrees.

We will provide a paper copy of the Consent Decree upon written request and payment of reproduction costs. Please mail your request and payment to: Consent Decree Library, U.S. DOJ—ENRD, P.O. Box 7611, Washington, DC 20044-7611.

Please enclose a check or money order for $5.00 (25 cents per page reproduction costs for 20 pages) payable to the United States Treasury.

Henry S. Friedman,
Assistant Chief, Environmental Enforcement Section, Environment and Natural Resources Division.

[FR Doc. 2015-14253 Filed 6-10-15; 8:45 am]

BILLING CODE 4410-15-P